DEPARTMENT OF HOMELAND SECURITY

Coast Guard

[USCG-2006-25282]

Collection of Information Under Review by Office of Management and Budget: OMB Control Numbers: 1625-0104, and 1625-0110

AGENCY: Coast Guard, DHS.

ACTION: Request for comments.

SUMMARY: In compliance with the Paperwork Reduction Act of 1995, this request for comments announces that the Coast Guard is forwarding two Information Collection Requests (ICRs), abstracted below, to the Office of Information and Regulatory Affairs (OIRA) of the Office of Management and Budget (OMB) to request an extension of their approval of the following collections of information. The ICRs are: (1) 1625-0104, Barges Carrying Bulk Hazardous Materials; and (2) 1625-0110, Maritime Identification Credentials—Title 33 CFR Part 125. Our ICRs describe the information we seek to collect from the public. Review and comment by OIRA ensures that we impose only paperwork burdens commensurate with our performance of duties.

DATES: Please submit comments on or before November 1, 2006.

ADDRESSES: To make sure that your comments and related material do not reach the docket [USCG-2006-25282] or OIRA more than once, please submit them by only one of the following means:

(1)(a) By mail to the Docket Management Facility, U.S. Department of Transportation (DOT), room PL-401, 400 Seventh Street, SW., Washington, DC 20590-0001. (b) By mail to OIRA, 725 17th Street, NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 or by contacting (b) OIRA at (202) 395-6566. To ensure your comments are received in time, mark the fax to the attention of Mr. Nathan Lesser, Desk officer for the Coast Guard.

(4)(a) Electronically through the Web site for the Docket Management System (DMS) at http://dms.dot.gov. (b). By e-mail to nlesser@omb.eop.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 1236 (Attn: Ms. Barbara Davis), 2100 2nd Street, SW., Washington, DC 20593-0001. The telephone number is (202) 475-3523.

FOR FURTHER INFORMATION CONTACT: Ms Barbara Davis, Office of Information Management, telephone (202) 475-3523 or fax (202) 475-3929, for questions on these documents; or Ms. Renee V. Wright, Program Manager, Docket Operations, (202) 493-0402, for questions on the docket.

SUPPLEMENTARY INFORMATION: The Coast Guard invites comments on the proposed collections of information to determine whether the collections are necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the ICRs addressed. Comments to DMS must contain the docket number of this request, [USCG 2006-25282]. For your comments to OIRA to be considered, it is best if OIRA receives them on or before the November 1, 2006.

Public participation and request for comments: We encourage you to respond to this request for comments by submitting comments and related materials. We will post all comments received, without change, to http://dms.dot.gov, they will include any personal information you have provided. We have an agreement with DOT to use their Docket Management Facility. Please see the paragraph on DOT's “Privacy Act Policy” below.

Submitting comments: If you submit a comment, please include your name and address, identify the docket number for this request for comment [USCG-2006-25282], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments: This request provides a 30-day comment period required by OIRA. The Coast Guard has already published the 60-day notice (71 FR 40527, July 17, 2006) required by 44 U.S.C. 3506(c)(2). That notice elicited no comments.

Information Collection Request

1. Title: Barges Carrying Bulk Hazardous Materials.

OMB Control Number: 1625-0104.

Type of Request: Extension of a currently approved collection.

Affected Public: Owners and operators of tank barges.

Forms: None.

Abstract: This information is needed to ensure the safe shipment of bulk hazardous liquids in barges. The requirements are necessary to ensure that barges meet safety standards and to ensure that barge crewmembers have the information necessary to operate barges safely.

Burden Estimate: The estimated burden remains 13,255 hours a year.

2. Title: Maritime Identification Credentials—Title 33 CFR Part 125.

OMB Control Number: 1625-0110.

Type of Request: Extension of a currently approved collection.

Affected Public: Operators of port facilities.

Forms: None.

Abstract: This information is needed to control access to certain waterfront facilities and ensure that an individual, before entry to one of these facilities—(1) Possesses an identification credential listed or approved pursuant to Title 33 CFR part 125, and (2) that the identity information is vetted by the Transportation Security Administration.

Burden Estimate: The estimated burden has decreased from 43,796 hours to 14,476 hours a year.

Dated: September 22, 2006.
R.T. Hewitt,
Rear Admiral, U.S. Coast Guard, Assistant Commandant for Command, Control,Communications, Computers and Information Technology.

[FR Doc. E6-16228 Filed 9-29-06; 8:45 am]

BILLING CODE 4910-15-P